DEPARTMENT OF ENERGY

Federal Energy Regulatory Commission

[Docket Nos. RP04-65-000 and RP04-99-000]

Indicated Shippers v. ANR Pipeline Company and Indicated Shippers v. Tennessee Gas Pipeline Company; Notice of Technical Conference

February 3, 2004.

Take notice that on February 24, 2004, a conference will be held to discuss gas quality standards on ANR Pipeline Company (ANR) and Tennessee Gas Pipeline Company (Tennessee). The conference will be held at the offices of the Federal Energy Regulatory Commission, 888 First Street, NE., Washington, DC 20426 in a room to be designated at a later date. The first session will be from 8:30 a.m. to 12:30 p.m. on the ANR system. The second session will be from 1:30 p.m. to 5:30 p.m. on the Tennessee system.

The technical conference is intended to assist the pipelines and their customers to establish gas quality standards on the pipelines' systems.

Questions about the conference should be directed to: Keith Pierce, Office of Markets, Tariffs, and Rates, 888 First Street NE., Washington, DC 20426, (202) 502-8525, Keith.Pierce@ferc.gov.

Magalie R. Salas,
Secretary.

[FR Doc. E4-234 Filed 2-9-04; 8:45 am]

BILLING CODE 6717-01-P